DEPARTMENT OF COMMERCE

International Trade Administration

[[A-570-900]

Diamond Sawblades and Parts Thereof From the People's Republic of China: Preliminary Results of Antidumping Duty Changed Circumstances Review

AGENCY: Import Administration, International Trade Administration, Department of Commerce.

SUMMARY: In response to a request from an interested party, the Department of Commerce initiated a changed circumstances review of the antidumping duty order on diamond sawblades and parts thereof from the People's Republic of China (PRC). We preliminarily determine that Husqvarna (Hebei) Co., Ltd. is the successor-in-interest to Hebei Husqvarna Jikai Diamond Tools Co., Ltd.

DATES: Effective Date: June 19, 2013.

FOR FURTHER INFORMATION: Yang Jin Chun AD/CVD Operations, Office 1, Import Administration, International Trade Administration, U.S. Department of Commerce, 14th Street and Constitution Avenue NW., Washington, DC 20230; telephone: (202) 482-5760.

SUPPLEMENTARY INFORMATION:

Background

The Department of Commerce (the Department) published the antidumping duty order on diamond sawblades and parts thereof from the PRC on November 4, 2009.¹ On October 1, 2012, Husqvarna (Hebei) Co., Ltd. (Hebei) filed a request for a changed circumstances review. In its request, Hebei informed the Department that Hebei Husqvarna Jikai Diamond Tools Co., Ltd. (Jikai) ² changed its name to Hebei on April 27, 2012, and it requested that the Department find Hebei to be the successor-in-interest to Jikai. On January 8, 2013, the Department published the notice of initiation of this review.³

¹ See Diamond Sawblades and Parts Thereof From the People's Republic of China and the Republic of Korea: Antidumping Duty Orders, 74 FR 57145 (November 4, 2009).

² In a previous changed circumstances review, the Department determined that Hebei Husqvarna Jikai Diamond Tools Co., Ltd., is not the successor-in-interest to Hebei Jikai Industrial Group Co., Ltd., and that Hebei Husqvarna Jikai Diamond Tools Co., Ltd., is a new entity. See Diamond Sawblades and Parts Thereof From the People's Republic of China: Preliminary Results and Preliminary Intent To Terminate, in Part, Antidumping Duty Changed Circumstances Review and Extension of Time Limit for Final Results, 76 FR 38357 (June 30, 2011), unchanged in Diamond Sawblades and Parts Thereof From the People's Republic of China: Final Results and Termination, in Part, of the Antidumping Duty Changed Circumstances Review, 76 FR 64898 (October 19, 2011).

³ See Diamond Sawblades and Parts Thereof From the People's Republic of China: Initiation of Antidumping Duty Changed Circumstances Review, 78 FR 1200 (January 8, 2013).

Scope of the Order

The products covered by the order are all finished circular sawblades, whether slotted or not, with a working part that is comprised of a diamond segment or segments, and parts thereof, regardless of specification or size, except as specifically excluded below. Within the scope of the order are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of the order. Diamond sawblades and/or sawblade cores with a thickness of less than 0.025 inches, or with a thickness greater than 1.1 inches, are excluded from the scope of the order. Circular steel plates that have a cutting edge of non-diamond material, such as external teeth that protrude from the outer diameter of the plate, whether or not finished, are excluded from the scope of the order. Diamond sawblade cores with a Rockwell C hardness of less than 25 are excluded from the scope of the order. Diamond sawblades and/or diamond segment(s) with diamonds that predominantly have a mesh size number greater than 240 (such as 250 or 260) are excluded from the scope of the order.

Merchandise subject to the order is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. On October 11, 2011, the Department included the 6804.21.00.00 HTSUS classification number to the customs case reference file, pursuant to a request by U.S. Customs and Border Protection (CBP).⁴

⁴ See Diamond Sawblades and Parts Thereof From the Republic of Korea: Preliminary Results of Antidumping Duty Administrative Review, 76 FR 76128 (December 6, 2011).

The tariff classification is provided for convenience and customs purposes; however, the written description of the scope of the order is dispositive.

Preliminary Results of Changed Circumstances Review

In making a successor-in-interest determination, the Department examines several factors including, but not limited to, changes in management, production facilities, supplier relationships, and customer base.⁵ While no single factor or combination of these factors will necessarily provide a dispositive indication of a successor-in-interest relationship, the Department will generally consider the new company to be the successor to the previous company if the new company's operations are similar to those of its predecessor.⁶ Thus, if the evidence demonstrates that, with respect to the production and sales of the subject merchandise, the new company operates as the same business entity as the former company, the Department will accord the new company the same antidumping treatment as its predecessor.⁷

⁵ See, e.g., Pressure Sensitive Plastic Tape from Italy: Preliminary Results of Antidumping Duty Changed Circumstances Review, 75 FR 8925 (Feb. 26, 2010), unchanged in Pressure Sensitive Plastic Tape From Italy: Final Results of Antidumping Duty Changed Circumstances Review, 75 FR 27706 (May 18, 2010); and Brake Rotors From the People's Republic of China: Final Results of Changed Circumstances Antidumping Duty Administrative Review, 70 FR 69941 (Nov. 18, 2005) (Brake Rotors), citing Brass Sheet and Strip from Canada; Final Results of Antidumping Duty Administrative Review, 57 FR 20460 (May 13, 1992).

⁶ See, e.g., Brake Rotors.

⁷ See id. See also e.g., Notice of Initiation and Preliminary Results of Antidumping Duty Changed Circumstances Review: Certain Frozen Warmwater Shrimp From India, 77 FR 64953 (October 24, 2012), unchanged in Final Results of Antidumping Duty Changed Circumstances Review: Certain Frozen Warmwater Shrimp From India, 77 FR 73619 (December 11, 2012).

.

In its submission, Hebei has provided sufficient evidence for us to preliminarily determine that it is the successor-in-interest to Jikai. Hebei states that its management, production facilities, and customer/supplier relationships have not changed as a result of the name change. Hebei provided documents showing that Husqvarna Holding AB, which had previously owned most of Jikai's shares, acquired the remaining shares to become Jikai's sole owner and changed of the company name from Jikai to Hebei. Further, Hebei provided internal documents evidencing that: Jikai's top 10 products remained as Hebei's top 10 products, Jikai's top 10 input suppliers remained as Hebei's top 10 input suppliers providing the same inputs, and Jikai's top 10 customers remained as Hebei's top 10 customers. Hebei also provided a list of members of the management team and supporting documentation indicating that Jikai's managers hold the same position in Hebei and documentation showing only small, insignificant changes to the members of the board of directors.

Based on record evidence, we preliminarily determine that Hebei is the successor-in-interest to Jikai because the name change resulted in no significant changes to management, production facilities, supplier relationships, and customers. As a result, we preliminarily determine that Hebei operates as the same business entity as Jikai. Thus, we preliminarily determine that Hebei should receive the same antidumping duty cash deposit rate with respect to the subject merchandise as Jikai, its predecessor company.

Because cash deposits are only estimates of the amount of antidumping duties that will be due, changes in cash deposit rates are not made retroactive and, therefore, no change will be made to Hebei's cash deposit rate as a result of these preliminary results. If Hebei believes that the deposits paid exceed the actual amount of dumping, it is entitled to request an administrative review during the anniversary month of the publication of the order of those entries, i.e., November, to determine the proper assessment rate and receive a refund of any excess deposits.⁸ As a result, if these preliminary results are adopted in our final results of this changed circumstances review, we will instruct CBP to suspend shipments of subject merchandise made by Hebei at Jikai's cash deposit rate effective on the publication date of our final results.

⁸ See Certain Hot-Rolled Lead and Bismuth Carbon Steel Products From the United Kingdom: Final Results of Changed-Circumstances Antidumping and Countervailing Duty Administrative Reviews, 64 FR 66880 (Nov. 30, 1999).

Public Comment

Pursuant to 19 CFR 351.309(c), interested parties may submit cases briefs not later than 15 days after the date of publication of this notice via Import Administration's Antidumping and Countervailing Duty Centralized Electronic Service System (IA ACCESS). Access to IA ACCESS is available to registered users at http://iaaccess.trade.gov and is available to all parties in the Central Records Unit, room 7046 of the main Department of Commerce building. Rebuttal briefs, limited to issues raised in the case briefs, may be filed not later than five days after the date for filing case briefs. Parties who submit case briefs or rebuttal briefs in this proceeding are encouraged to submit with each argument: (1) A statement of the issue; (2) a brief summary of the argument; and (3) a table of authorities.

Pursuant to 19 CFR 351.310(c), interested parties who wish to request a hearing, or to participate if one is requested, must submit a written request to the Assistant Secretary for Import Administration, filed electronically via IA ACCESS. An electronically filed document must be received successfully in its entirety by IA ACCESS, no later than 5:00 p.m. Eastern Time within 15 days after the date of publication of this notice. Requests should contain: (1) The party's name, address, and telephone number; (2) the number of participants; and (3) a list of issues to be discussed. Issues raised in the hearing will be limited to those raised in case briefs.

Consistent with 19 CFR 351.216(e), we will issue the final results of this changed circumstances review no later than 270 days after the date on which this review was initiated, or within 45 days after the publication of the preliminary results if all parties in this review agree to our preliminary results.

We are issuing and publishing this notice in accordance with sections 751(b)(1) and 777(i)(1) of the Tariff Act of 1930, as amended, and 19 CFR 351.216.

Dated: June 13, 2013.
Paul Piquado,
Assistant Secretary for Import Administration.

[FR Doc. 2013-14640 Filed 6-18-13; 8:45 am]

BILLING CODE 3510-DS-P